DEPARTMENT OF TRANSPORTATION

Federal Aviation Administration

14 CFR Part 39

[Docket No. 2000-NE-12-AD; Amendment 39-14423; AD 2001-08-14R1]

RIN 2120-AA64

Airworthiness Directives; Turbomeca S.A. Arrius Models 2B, 2B1, and 2F Turboshaft Engines

AGENCY: Federal Aviation Administration (FAA), DOT.

ACTION: Final rule.

SUMMARY: The FAA is revising an existing airworthiness directive (AD) for Turbomeca S.A. Arrius Models 2B, 2B1, and 2F turboshaft engines. That AD currently requires replacing the right injector half manifold, left injector half manifold, and privilege injector pipe. This AD requires the same actions, but relaxes the compliance time for the repetitive replacements on Arrius 2F engines. This AD results from Turbomeca relaxing the repetitive replacement interval for Arrius 2F engine fuel nozzles based on review of returned fuel nozzles to Turbomeca. We are issuing this AD to prevent engine flameout during rapid deceleration, or the inability to maintain the 2.5 minutes one engine inoperative (OEI) rating, and to prevent air path cracks due to blockage of the fuel injection manifolds.

DATES: This AD becomes effective February 23, 2006. The Director of the Federal Register approved the incorporation by reference of certain publications listed in the regulations as of February 23, 2006.

ADDRESSES: You can get the service information identified in this AD from Turbomeca S.A., 40220 Tarnos, France; telephone: (33) 05 59 64 40 00; fax: (33) 05 59 64 60 80.

You may examine the AD docket at the FAA, New England Region, Office of the Regional Counsel, 12 New England Executive Park, Burlington, MA.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: The FAA proposed to amend 14 CFR part 39 with a proposed AD. The proposed AD applies to Turbomeca S.A. Arrius Models 2B, 2B1, and 2F turboshaft engines. We published the proposed AD in the Federal Register on May 27, 2005 (70 FR 30651). That action proposed to relax time requirements for the replacement of the right injector half manifold, left injector half manifold, and privilege injector pipe on Arrius 2F engines.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We carefully reviewed the available data and determined that air safety and the public interest require adopting the AD as proposed.

Costs of Compliance

About 266 Turbomeca S.A. Arrius Models 2B, 2B1, and 2F turboshaft engines of the affected design are in the worldwide fleet. We estimate that 124 of these engines are installed on helicopters of U.S. registry. We also estimate that it will take about two work hours per engine to perform these actions, and that the average labor rate is $65 per work hour. Required parts will cost about $14,320 per engine. The manufacturer has advised the DGAC that it may provide the parts at no cost to the operator, thereby substantially reducing the cost of this rule. Based on these figures, we estimate the total cost of the AD to U.S. operators to replace all the affected parts one time to be $1,791,800.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2000-NE-12-AD” in your request.

List of Subjects in 14 CFR Part 39

Air transportation, Aircraft, Aviation safety, Incorporation by Reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12218 (66 FR 20910, April 26, 2001) and by adding a new airworthiness directive, to read as follows:

2001-08-14R1 Turbomeca S.A.: Amendment 39-14423. Docket No. 2000-NE-12-AD. Revises AD 2001-08-14, Amendment 39-12218.

Applicability

This AD applies to Arrius Models 2B, 2B1, and 2F engines. These engines are installed on but not limited to Eurocopter France Model EC120B and Eurocopter Deutschland EC135 T1 rotorcraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

You are responsible for having the actions required by this AD performed within the compliance times specified unless the actions have already been done.

To prevent engine flameout and the inability to maintain the 2.5 minutes one engine inoperative (OEI) rating due to blockage of the fuel injection manifolds, do the following:

Initial Replacement

(a) If not already done in accordance with Turbomeca Alert Service Bulletin (ASB) No. A319 73 2012, Revision 2, dated May 25, 1999, or Revision 3, dated July 21, 2000, or ASB No. A319 73 4001, Revision 3, dated May 25, 1999, or Revision 4, dated October 20, 2000, replace injector manifolds and borescope-inspect the flame tube and the high pressure turbine area within 30 days after the effective date of this AD, or prior to exceeding 200 hours time-in-service (TIS), whichever is later. Do these in accordance with Instructions 2.A. through 2.C. of Turbomeca ASB No. A319 73 2012, Revision 6, dated August 14, 2004, for Arrius 2B and 2B1 turboshaft engines, and ASB No. A319 73 4001, Revision 7, dated August 14, 2004, for Arrius 2F turboshaft engines, except that replacement may be done at any appropriately rated repair shop.

Repetitive Replacements

(b) Thereafter, replace injector manifolds, in accordance with Instructions 2.A. through 2.C. of Turbomeca ASB No. A319 73 2012, Revision 6, dated August 14, 2004, for Arrius 2B and 2B1 turboshaft engines, and ASB No. A319 73 4001, Revision 7, dated August 14, 2004, for Arrius 2F turboshaft engines, except that replacement may be done at any appropriately rated repair shop, as follows:

(1) For Arrius 2B and 2B1 engines, replace within 200 hours TIS since last injector manifolds replacement.

(2) For Arrius 2F engines, replace within 400 hours TIS since last injector manifolds replacement.

(3) For all engines, replace injector manifolds before further flight after performing the applicable flight manual or overhaul manual power check if that check shows a negative turbine outlet temperature (TOT) margin or negative T4 margin.

Definition

(c) For the purposes of this AD, time-in-service (TIS) is defined as the number of engine operating hours on the manifolds since the manifolds were new or since the manifolds were refurbished.

Alternative Methods of Compliance

(d) An alternative method of compliance or adjustment of the compliance time that provides an acceptable level of safety may be used if approved by the Manager, Engine Certification Office. Operators must submit their request through an appropriate FAA Principal Maintenance Inspector, who may add comments and then send it to the Manager, Engine Certification Office.

Note 2: Information concerning the existence of approved alternative methods of compliance with this airworthiness directive, if any, may be obtained from the Engine Certification Office.

Special Flight Permits

(e) Special flight permits may be issued in accordance with §§ 21.197 and 21.199 of the Federal Aviation Regulations (14 CFR 21.197 and 21.199) to operate the aircraft to a location where the requirements of this AD can be accomplished.

Documents That Have Been Incorporated by Reference

(f) The inspections and replacements must be done in accordance with the following Turbomeca S.A. mandatory alert service bulletins (ASBs):

Document No. | Pages | Revision | Date
ASB No. A319 73 2012, Total pages: 8 | 8 | 6 | August 14, 2004.
ASB No. A319 73 4001, Total pages: 8 | 8 | 7 | August 14, 2004.

The Director of the Federal Register approved the incorporation by reference of these service bulletins in accordance with 5 U.S.C. 552(a) and 1 CFR part 51. Copies may be obtained from Turbomeca S.A., 40220 Tarnos, France; telephone: (33) 05 59 64 40 00; fax: (33) 05 59 64 60 80. Copies may be inspected at the FAA, New England Region, Office of the Regional Counsel, 12 New England Executive Park, Burlington, MA; or at the National Archives and Records Administration (NARA). For information on the availability of this material at NARA, call 202-741-6030, or go to: http://www.archives.gov/federal-register/cfr/ibr-locations.html.

Note 3: The subject of this AD was addressed by the Direction Generale de L'Aviation Civile (DGAC), which is the airworthiness authority for France, in airworthiness directives AD 1999-217(A) and AD 1999-233(A).

Effective Date

(g) This airworthiness directive (AD) becomes effective February 23, 2006.

Issued in Burlington, Massachusetts, on January 9, 2006.
Peter A. White,
Acting Manager, Engine and Propeller Directorate, Aircraft Certification Service.

[FR Doc. 06-366 Filed 1-18-06; 8:45 am]

BILLING CODE 4910-13-P